DEPARTMENT OF TRANSPORTATION

Federal Aviation Administration

14 CFR Part 71

[Docket No. FAA-2020-0810; Airspace Docket No. 19-ANM-101]

RIN 2120-AA66

Amendment of Class D and Class E Airspace; Helena, MT

AGENCY: Federal Aviation Administration (FAA), DOT.

ACTION: Final rule.

SUMMARY: This action modifies the Class D airspace at Helena Regional Airport. This action also modifies the Class E airspace, designated as a surface area. Additionally, this action establishes Class E airspace, designated as an extension to a Class D or Class E surface area. Further, this action modifies the Class E airspace, extending upward from 700 feet above the surface. Also, this action modifies the Class E airspace extending upward from 1,200 feet above the surface. This action removes the Helena VORTAC from the airspace legal descriptions. Lastly, this action implements administrative corrections to the airspaces' legal descriptions.

DATES: Effective 0901 UTC, February 25, 2021. The Director of the Federal Register approves this incorporation by reference action under Title 1 Code of Federal Regulations part 51, subject to the annual revision of FAA Order 7400.11 and publication of conforming amendments.

ADDRESSES: FAA Order 7400.11E, Airspace Designations and Reporting Points, and subsequent amendments can be viewed online at https://www.faa.gov//air_traffic/publications/. For further information, you can contact the Airspace Policy Group, Federal Aviation Administration, 800 Independence Avenue SW, Washington, DC 20591; telephone: (202) 267-8783. The Order is also available for inspection at the National Archives and Records Administration (NARA). For information on the availability of FAA Order 7400.11E at NARA, email fedreg.legal@nara.gov or go to https://www.archives.gov/federal-register/cfr/ibr-locations.html.

FOR FURTHER INFORMATION CONTACT: Matthew Van Der Wal, Federal Aviation Administration, Western Service Center, Operations Support Group, 2200 S. 216th Street, Des Moines, WA 98198; telephone (206) 231-3695.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of airspace necessary to ensure the safety of aircraft and the efficient use of airspace. This regulation is within the scope of that authority as it modifies Class D and Class E airspace at Helena Regional Airport, Helena, MT, to ensure the safety and management of Instrument Flight Rules (IFR) operations at the airport.

History

The FAA published a notice of proposed rulemaking in the Federal Register (85 FR 59700; September 23, 2020) for Docket No. FAA-2020-00810 to modify Class D and Class E airspace at Helena Regional Airport, Helena, MT. Interested parties were invited to participate in this rulemaking effort by submitting written comments on the proposal to the FAA. One comment, that is not germane to the proposed airspace action, was received.

Class D, E2, E4, and E5 airspace designations are published in paragraphs 5000, 6002, 6004, and 6005, respectively, of FAA Order 7400.11E, dated July 21, 2020, and effective September 15, 2020, which is incorporated by reference in 14 CFR 71.1. The Class E airspace designation listed in this document will be published subsequently in the Order.

Availability and Summary of Documents for Incorporation by Reference

This document amends FAA Order 7400.11E, Airspace Designations and Reporting Points, dated July 21, 2020, and effective September 15, 2020. FAA Order 7400.11E is publicly available as listed in the ADDRESSES section of this document. FAA Order 7400.11E lists Class A, B, C, D, and E airspace areas, air traffic service routes, and reporting points.

The Rule

This amendment to Title 14 Code of Federal Regulations part 71 modifies the Class D airspace at Helena Regional Airport, Helena, MT. The action modifies the Class D airspace by adding extensions to the east and west of the airport, to properly contain IFR departures to 700 feet above the surface. The airspace area is described as follows: That airspace extending upward from the surface to and including 6,400 feet within a 4.4-mile radius of the airport, and within 2 miles each side of the 091° bearing from the airport, extending from the 4.4-mile radius to 5.2 miles east of the airport, and within 2 miles each side of 292° bearing from the airport, extending from the 4.4-mile radius to 5.8 miles west of Helena Regional Airport. This Class D airspace area is effective during the specific dates and times established in advance by a Notice to Airmen. The effective date and time will thereafter be continuously published in the Chart Supplement. This action also modifies the Class E airspace, designated as a surface area, to be coincident with the new Class D dimensions. The airspace area is as follows: That airspace extending upward from the surface within a 4.4-mile radius of the airport, and within 2 miles each side of the 091° bearing from the airport, extending from the 4.4-mile radius to 5.2 miles east of the airport, and within 2 miles each side of 292° bearing from the airport, extending from the 4.4-mile radius to 5.8 miles west of Helena Regional Airport. This Class E airspace area is effective during the specific dates and times established in advance by a Notice to Airmen. The effective date and time will thereafter be continuously published in the Chart Supplement.

Additionally, this action establishes Class E airspace, designated as an extension to a Class D or Class E surface area. This airspace area is designed to contain IFR aircraft descending below 1,000 feet above the surface. The airspace area is described as follows: That airspace extending upward from the surface within an area bounded by a line beginning at lat. 46°34′18.57″ N, Long. 111°51′30.319″ W, to lat. 46°38′5.89″ N, Long. 111°51′24.53″ W, to lat. 46°37′12.53″ N, Long. 111°45′24.67″ W, to lat. 46°32′22.72″ N, Long. 111°46′31.44″ W, to lat. 46°33′24.13″ N, Long. 111°54′20.01″ W, then counter-clockwise along. the 4.4-mile radius of the airport to lat. 46°34′20.01″ N, Long. 111°53′22.03″ W, then to the point of beginning, and within an area bounded by a line beginning at lat. 46°38′39.95″ N, Long. 112°06′47.50″W, to lat. 46°36′47.49″ N, Long. 112°07′53.41″ W, to lat. 46°37′22.52″ N, Long. 112°11′37.80″ W, to lat. 46°39′19.40″ N, Long. 112°10′58.64″ W, then to the point of beginning west of Helena Regional Airport.

Further, this action modifies the Class E airspace extending upward from 700 feet above the surface. The action properly sizes the airspace to contain IFR departures to 1,200 feet above the surface and IFR arrivals descending below 1,500 feet above the surface. The airspace area is described as follows: That airspace extending upward from 700 feet above the surface within an 8.3-mile radius of the airport, and within 1 mile each side of the 103° bearing from the airport, extending from the 8.3-mile radius to 10.7 miles east of the airport, and within 1.8 miles each side of the 281° bearing from the airport, extending from the 8.3-mile radius to 18.1 miles west of Helena Regional Airport. This action also modifies the Class E airspace extending upward from 1,200 feet above the surface to properly contain IFR aircraft transitioning to/from the terminal and en route environments. The airspace area is described as follows: That airspace extending upward from 1,200 feet above the surface within a 36-mile radius of Helena Regional Airport. The action also removes the Helena VORTAC and all references to the VORTAC from the Class D, E2, and E5 legal descriptions. The navigational aid is not needed to define the airspace. Removal of the navigational aid allows the airspace to be defined from a single reference point which simplifies how the airspace is described. The action also updates the airport's geographic coordinates to match the FAA database. The coordinates should read lat. 46°36′24″ N, Long. 111°59′0.0″ W. Additionally, the term “Airport/Facility Directory” in the last sentence of the Class D and Class E2 airspace legal descriptions is outdated, the term is updated to “Chart Supplement”. FAA Order 7400.11, Airspace Designations and Reporting Points, is published yearly and effective on September 15.

Regulatory Notices and Analyses

The FAA has determined that this regulation only involves an established body of technical regulations for which frequent and routine amendments are necessary to keep them operationally current, is non-controversial and unlikely to result in adverse or negative comments. It, therefore: (1) Is not a “significant regulatory action” under Executive Order 12866; (2) is not a “significant rule” under DOT Regulatory Policies and Procedures (44 FR 11034; February 26, 1979); and (3) does not warrant preparation of a regulatory evaluation as the anticipated impact is so minimal. Since this is a routine matter that will only affect air traffic procedures and air navigation, it is certified that this rule, when promulgated, would not have a significant economic impact on a substantial number of small entities under the criteria of the Regulatory Flexibility Act.

Environmental Review

The FAA has determined that this action qualifies for categorical exclusion under the National Environmental Policy Act in accordance with FAA Order 1050.1F, “Environmental Impacts: Policies and Procedures,” paragraph 5-6.5a. This airspace action is not expected to cause any potentially significant environmental impacts, and no extraordinary circumstances exist that warrant preparation of an environmental assessment.

List of Subjects in 14 CFR Part 71

Airspace, Incorporation by reference, Navigation (air).

Adoption of the Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for 14 CFR part 71 continues to read as follows:

Authority: 49 U.S.C. 106(f), 106(g), 40103, 40113, 40120; E.O. 10854, 24 FR 9565, 3 CFR, 1959-1963 Comp., p. 389.

§ 71.1 [Amended]

2. The incorporation by reference in 14 CFR 71.1 of FAA Order 7400.11E, Airspace Designations and Reporting Points, dated July 21, 2020, and effective September 15, 2020, is amended as follows:

Paragraph 5000. Class D Airspace.

* * * * *

ANM MT D Helena, MT [Amended]

Helena Regional Airport, MT

(Lat. 46°36′24″ N, long. 111°59′0.0″ W)

That airspace extending upward from the surface to and including 6,400 feet within a 4.4-mile radius of the airport, and within 2 miles each side of the 091° bearing from the airport, extending from the 4.4-mile radius to 5.2 miles east of the airport, and within 2 miles each side of 292° bearing from the airport, extending from the 4.4-mile radius to 5.8 miles west of Helena Regional Airport. This Class D airspace area is effective during the specific dates and times established in advance by a Notice to Airmen. The effective date and time will thereafter be continuously published in the Chart Supplement.

Paragraph 6002. Class E Airspace Areas Designated as a Surface Area.

* * * * *

ANM MT E2 Helena, MT [Amended]

Helena Regional Airport, MT

(Lat. 46°36′24″ N, long. 111°59′0.0″ W)

That airspace extending upward from the surface within a 4.4-mile radius of the airport, and within 2 miles each side of the 091° bearing from the airport, extending from the 4.4-mile radius to 5.2 miles east of the airport, and within 2 miles each side of 292° bearing from the airport, extending from the 4.4-mile radius to 5.8 miles west of Helena Regional Airport. This Class E airspace area is effective during the specific dates and times established in advance by a Notice to Airmen. The effective date and time will thereafter be continuously published in the Chart Supplement.

Paragraph 6004. Class E Airspace Areas Designated as an Extension to a Class D or Class E Surface Area.

* * * * *

ANM MT E4 Helena, MT [New]

Helena Regional Airport, MT

(Lat. 46°36′24″ N, long. 111°59′0.0″ W)

That airspace extending upward from the surface within an area bounded by a line beginning at Lat. 46°34′18.57″ N, long. 111°51′30.319″ W, to Lat. 46°38′5.89″ N, Long. 111°51′24.53 ″ W, to Lat. 46°37′12.53″ N, long. 111°45′24.67 ″ W, to Lat. 46°32′22.72″ N, Long. 111°46′31.44″ W, to Lat. 46°33′24.13″ N, Long. 111°54′20.01″ W, then counter-clockwise along the 4.4-mile radius of the airport to Lat. 46°34′20.01″ N, long. 111°53′22.03″ W, then to the point of beginning, and within an area bounded by a line beginning at Lat. 46°38′39.95″ N, long. 112°06′47.50″ W, to Lat. 46°36′47.49″ N, long. 112°07′53.41″ W, to Lat. 46°37′22.52″ N, long. 112°11′37.80″ W, to Lat. 46°39′19.40″ N, long. 112°10′58.64″ W, then to the point of beginning west of Helena Regional Airport.

Paragraph 6005. Class E Airspace Areas Extending Upward from 700 feet or more above the Surface of the Earth.

* * * * *

ANM MT E5 Helena, MT [Amended]

Helena Regional Airport, MT

(Lat. 46°36′24″ N, long. 111°59′0.0″ W)

That airspace extending upward from 700 feet above the surface within an 8.3-mile radius of the airport, and within 1 mile each side of the 103° bearing from the airport, extending from the 8.3-mile radius to 10.7 miles east of the airport, and within 1.8 miles each side of the 281° bearing from the airport, extending from the 8.3-mile radius to 18.1 miles west of the airport; and that airspace extending upward from 1,200 feet above the surface within a 36-mile radius of Helena Regional Airport.

Issued in Seattle, Washington, on December 1, 2020.
B. G. Chew,
Acting Group Manager, Operations Support Group, Western Service Center.

[FR Doc. 2020-26816 Filed 12-4-20; 8:45 am]

BILLING CODE 4910-13-P